DEPARTMENT OF LABOR

Employment and Training Administration

[TA-W-52,278]

Brandt, a Varco Company, Oklahoma City, Oklahoma; Notice of Termination of Investigation

Pursuant to section 221 of the Trade Act of 1974, as amended, an investigation was initiated on July 10, 2003, in response to a petition filed on behalf of workers at Brandt, a Varco Company, Oklahoma City Oklahoma.

The petition regarding the investigation has been deemed invalid. Consequently, the investigation has been terminated.

Signed at Washington, DC, this 25th day of July, 2003.
Linda G. Poole.
Certifying Officer, Division of Trade Adjustment Assistance.

[FR Doc. 03-19866 Filed 8-4-03; 8:45 am]

BILLING CODE 4510-30-P